DEPARTMENT OF TRANSPORTATION

Federal Highway Administration

Environmental Impact Statement and Environmental Impact Report: San Francisco, CA

AGENCY: Federal Highway Administration (FHWA), DOT.

ACTION: Notice of Intent (NOI) to prepare a joint Environmental Impact Statement/Environmental Impact Report (EIS/EIR).

SUMMARY: The FHWA, on behalf of the California Department of Transportation (Caltrans), and The San Francisco County Transportation Authority (Authority), is issuing this notice to advise the public that an Environmental Impact Statement/Environmental Impact Report (EIS/EIR) will be prepared for the proposed Yerba Buena Island (YBI) Ramps Improvement Project on Interstate 80 (I-80) in San Francisco County, California.

FOR FURTHER INFORMATION CONTACT: Eric Cordoba, San Francisco County Transportation Authority, 100 Van Ness Avenue, 26th Floor, San Francisco, CA 94102, Telephone (415) 955-2904 or Melanie Brent, Caltrans District 4 Office of Environmental Analysis, 111 Grand Avenue, Oakland, CA 94623, Telephone (510) 286-5231.

SUPPLEMENTARY INFORMATION: Effective July 1, 2007, the Federal Highway Administration (FHWA) assigned, and the California Department of Transportation (Caltrans) assumed, National Environmental Policy Act (NEPA) environmental responsibilities for highway projects pursuant to 23 U.S.C. 327. In cooperation with Caltrans, the Authority will prepare a joint EIS/EIR for the proposed YBI Ramps Improvement Project at Yerba Buena Island in the City and County of San Francisco, California. Caltrans is the lead agency under NEPA and the Authority is the lead agency under the California Environmental Quality Act (CEQA).

YBI is located in San Francisco Bay, between Oakland and San Francisco, and is accessible by vehicles only via the San Francisco-Oakland Bay Bridge (SFOBB), which is a critical link in the interstate network, providing access between San Francisco and the East Bay. The only access to Treasure Island, located north of YBI, and the only land access to the active U.S. Coast Guard facilities on the south side of YBI, is also from the SFOBB and the associated on- and off-ramps.

The proposed project would replace the existing westbound on- and off-ramps located on the east side of YBI with new westbound on- and off-ramps that replicate the functional role of the current ramps and also address seismic, traffic safety requirements, and design standards. The feasibility of improving the geometric configuration of the current eastbound off-ramp on the eastern side of YBI to Hillcrest Road will also be included. The YBI Ramps Improvement Project is separate and independent of both the SFOBB East Span Seismic Safety Project currently under construction, and the Treasure Island and Yerba Buena Island (TI/YBI) Redevelopment Plan, which is currently undergoing its own environmental review process. The proposed new ramps would improve traffic and seismic safety of the ramps and provide connections between YBI and the transition structure of the new SFOBB. The proposed project is located between Post Mile (PM) 7.8 and 8.1 starting at the east portal of the YBI tunnel and ending before the SFOBB Transition Structure.

The purpose of the project is to address geometric and operational deficiencies of the existing on- and off-ramps, improve traffic operations to and from the SFOBB and improve traffic safety by increasing deceleration length for the eastbound and westbound off-ramps, and increasing merging distance for eastbound and westbound on-ramps. Preliminary alternatives under consideration for the EIS/EIR include:

(1) No Build Alternative, which assumes that the existing on- and off-ramps would remain in place and no further action or improvements would occur;

(2) Alternative 2B, which would include the removal of the existing westbound on- and off-ramps on the east side of YBI, construction of a westbound off-ramp to Macalla Court on the east side of YBI, construction of a westbound hook on-ramp from Macalla Court on the east side of YBI. The feasibility of incorporating improvements to the current eastbound off-ramp on the eastern side of YBI to Hillcrest Road will be studied; and,

(3) Alternative 4, which would include the removal of the existing westbound on- and off-ramps on the east side of YBI, the construction of westbound on-ramp from Hillcrest Road, the construction of westbound off-ramp from Macalla Court on the east side of YBI. The feasibility of incorporating improvements to the current eastbound off-ramp on the eastern side of YBI to Hillcrest Road will be studied.

Anticipated Federal approvals or permits include, U.S. Fish and Wildlife Service (USFWS) Section 7 Endangered Species Act, Consultation, Sections 401 and 404 of the Clean Water Act, Section 4(f) of the Transportation Act of 1966, Section 6(f) Land and Water Conservation Fund Act, Section 10 Army Corp of Engineers (ACOE), Section 9 Coast Guard, and determination of consistency with the Federal Coastal Zone Management Act by the San Francisco Bay Conservation and Development Commission.

Letters describing the proposed action and soliciting comments will be sent to appropriate Federal, State, participating agencies (including federally recognized Tribal governments, if any), local agencies, and private organizations and citizens who have previously expressed or are known to have interest in this proposal. The NEPA environmental process for the proposed project began in June 2008. A public scoping meeting is scheduled to be held at the Port of San Francisco office, in the Bayside Conference Room located at Pier 1, The Embarcadero, San Francisco, CA 94111 on Wednesday, September 24, 2008 from 6:30 to 8 p.m.

In addition, at least one public hearing will be held after the publication of the Draft EIS/EIR. Public notice will be given of the time and place of the meeting and hearing (as applicable). The Draft EIS/EIR will be available for public and agency review and comment prior to the public hearing.

To ensure that the full range of issues related to this proposed action are addressed and all significant issues identified, comments and suggestions are invited from all interested parties. Comment or questions concerning this proposed action and the EIS should be directed to Eric Cordoba, Project Manager for the Authority, with a copy of comment sent to Melanie Brent, Caltrans Office Chief. Written comments must be received no later than 5 p.m. on October 6, 2008 and should be sent to Eric Cordoba at the Authority, with a copy of the comment sent to Melanie Brent at Caltrans at the addresses listed above.

(Catalog of Federal Domestic Assistance Program Number 20.205, Highway Planning and Construction. The regulations implementing Executive Order 12372 regarding intergovernmental consultation on Federal programs and activities apply to this program.)

Issued on: September 5, 2008.
Nancy E. Bobb,
Director, State Programs, Federal Highway Administration, Sacramento, California.

[FR Doc. E8-20698 Filed 9-5-08; 8:45 am]

BILLING CODE 4910-22-P